ENVIRONMENTAL PROTECTION AGENCY

40 CFR Part 52

[Docket No. AK-24-1712b; FRL-6993-8]

Approval and Promulgation of State Implementation Plans: Alaska

AGENCY: Environmental Protection Agency (EPA).

ACTION: Proposed rule.

SUMMARY: The EPA proposes to approve the State Implementation Plan (SIP) revision submitted by the State of Alaska for the purpose of revising the visible emission limit for coal burning boilers, during startup; shutdown; soot-blowing; grate cleaning; or other routine maintenance activities, that began operation before August 17, 1971, and submitted the required demonstration. Additionally, we are proposing to approve a revision to the definitions section that will add definitions of grate cleaning and soot-blowing. The SIP revision was submitted by the State to satisfy certain Federal Clean Air Act requirements under Section 110. In the Final Rules Section of this Federal Register, EPA is approving the State's SIP submittal as a direct final rule without prior proposal because the Agency views this as a noncontroversial submittal amendment and anticipates no adverse comments. A detailed rationale for the approval is set forth in the direct final rule. If no adverse comments are received in response to this action, no further activity is contemplated. If the EPA receives adverse comments, the direct final rule will be withdrawn and all public comments received will be addressed in a subsequent final rule based on this proposed rule. The EPA will not institute a second comment period. Any parties interested in commenting on this action should do so at this time.

DATES: Written comments must be received on or before July 20, 2001.

ADDRESSES: Written comments should be addressed to: Roylene A. Cunningham, EPA Region 10, Office of Air Quality (OAQ-107), 1200 Sixth Avenue, Seattle, Washington 98101. Copies of the State submittal and other information supporting this action are available at the following addresses for inspection during normal business hours. The interested persons wanting to examine these documents should make an appointment with the appropriate office at least 24 hours before the visiting day: EPA Region 10, Office of Air Quality (OAQ-107), 1200 Sixth Avenue, Seattle, Washington 98101; and Alaska Department of Environmental Conservation, 410 Willoughby Avenue, Suite 105, Juneau, Alaska 99801-1795.

FOR FURTHER INFORMATION CONTACT: Roylene A. Cunningham, EPA Region 10, Office of Air Quality (OAQ-107), 1200 Sixth Avenue, Seattle, Washington 98101, (206) 553-0513.

SUPPLEMENTARY INFORMATION: For additional information, see the Direct Final rule which is located in the Rules Section of this Federal Register.

Dated: May 30, 2001.
Michael A. Bussell,
Acting Regional Administrator, Region 10.

[FR Doc. 01-15417 Filed 6-19-01; 8:45 am]

BILLING CODE 6560-50-P